DEPARTMENT OF TRANSPORTATION

Federal Aviation Administration

14 CFR Parts 121 and 129

[Docket No. FAA-1999-5401; Amendment Nos. 121-310 and 129-41]

RIN 2120-AE42

Aging Airplane Safety; Correcting Amendment

AGENCY: Federal Aviation Administration, DOT.

ACTION: Final rule; disposition of comments; correcting amendment.

SUMMARY: This document makes corrections to the Aging Airplane Safety final rule; disposition of comments published in the Federal Register on February 2, 2005 (70 FR 5518). In that document errors in the amendatory language caused certain subparagraphs in sections 121.368 and 129.33 to be inadvertently retained.

DATES: Effective May 6, 2005.

FOR FURTHER INFORMATION CONTACT: Frederick Sobeck, Aircraft Maintenance Division, AFS-308, Flight Standards Service, Federal Aviation Administration, 800 Independence Avenue SW., Washington, DC 20591; telephone (202) 267-7355; facsimile (202) 267-5115.

SUPPLEMENTARY INFORMATION: On February 2, 2005, the Federal Aviation Administration (FAA) published the “Aging Airplane Safety” final rule; disposition of comments. The provisions of that rule included requirements for certain airplanes to undergo inspections and records reviews at specified intervals. The FAA discussed in the preamble to the rule that we were amending §§ 121.368 and 129.33 to remove the requirement for operators to provide the current status of both Corrosion Prevention and Control Programs and the inspections and procedures required under § 121.370a as separate items. To accomplish this, we intended to remove subparagraphs i, ii, and iii of §§ 121.368(d)(8) and 129.33(c)(8). Because of errors in the amendatory language, the subparagraphs were incorrectly retained in the rule language. This document corrects the amendatory language to remove those subparagraphs.

List of Subjects

14 CFR Part 121

Air carriers, Aircraft, Aviation safety, Reporting and recordkeeping requirements, Safety, Transportation.

14 CFR Part 129

Air carriers, Aircraft, Aviation safety, Reporting and recordkeeping requirements.

The Correcting Amendment

Accordingly, Title 14 of the Code of Federal Regulations (CFR) parts 121 and 129 are amended as follows:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 44901, 44903-44904, 44912, 45101-45105, 46105, 46301.

2. Amend § 121.368 by revising paragraph (d)(8) to read as follows:

§ 121.368 Aging airplane inspections and records reviews.

(d) * * *

(8) Current status of applicable airworthiness directives, including the date and methods of compliance, and if the airworthiness directive involves recurring action, the time and date when the next action is required;

* * * * *

PART 129—OPERATIONS: FOREIGN AIR CARRIERS AND FOREIGN OPERATORS OF U.S.-REGISTERED AIRCRAFT ENGAGED IN COMMON CARRIAGE

3. The authority citation for part 129 continues to read as follows:

Authority: 49 U.S.C. 1372, 40113, 40119, 44101, 44701-44702, 44705, 44709-44711, 44713, 44716-44717, 44722, 44901-44904, 44906, 44912, 46105, Pub. L. 107-71 sec 104.

4. Amend § 129.33 by revising paragraph (c)(8) to read as follows:

§ 129.33 Aging airplane inspections and records reviews for U.S.-registered multiengine aircraft.

(c) * * *

(8) Current status of applicable airworthiness directives, including the date and methods of compliance, and if the airworthiness directive involves recurring action, the time and date when the next action is required;

* * * * *

Issued in Washington, DC, on May 2, 2005.
Rebecca MacPherson,
Assistant Chief Counsel, Regulations Division.

[FR Doc. 05-9138 Filed 5-5-05; 8:45 am]

BILLING CODE 4910-13-P